DEPARTMENT OF DEFENSE

Office of the Secretary

[Docket ID: DOD-2026-OS-0496]

Proposed Collection; Comment Request

AGENCY: Pentagon Force Protection Agency (PFPA), Department of Defense.

ACTION: 60-Day information collection notice.

SUMMARY: In compliance with the Paperwork Reduction Act of 1995, the PFPA, Department of War. announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 4, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Pentagon Force Protection Agency, 9000 Defense Pentagon, Washington DC 20301-900; Mark Ryan, (703) 695-0211.

SUPPLEMENTARY INFORMATION:

Title; Associated Form; and OMB Number: PFPA Recruitment, Medical, and Fitness Division Forms; PFPA Form 1400, PFPA Form 1407, PFPA Form 1408, PFPA Form 1409, PFPA Form 1410, PFPA Form 6040; OMB Control Number 0704-0588.

Needs and Uses: This information collection is essential to the Pentagon Force Protection Agency and is used to make a determination of eligibility for federal employment in the field of law enforcement. To that end, criminal, background and medical information is collected on the applicants.

Affected Public: Individuals.

Annual Burden Hours: 520 hours.

Number of Respondents: 3,600.

Responses per Respondent: 1.

Annual Responses: 3,600.

Average Burden per Response: PFPA Form 1400: 5 minutes; PFPA Form 1407: 5 minutes; PFPA Form 1408: 5 minutes; PFPA Form 1409: 10 minutes; PFPA Form 1410: 10 minutes; PFPA Form 6040: 20 minutes.

Frequency: On occasion.

There are four respondent populations for this collection. Applicants are the first population—they are certified by USAJOBS for law enforcement positions in PFPA. The medical, background, and criminal history information that they are providing is necessary in order to ensure their eligibility for the position. The second population is current/former supervisors who act as references for the applicants. The third population is character references. The fourth population is other law enforcement agencies that these applicants have applied to.

All of this information is filled out over six PFPA forms. The information collected from these forms are stored in Salesforce. The Salesforce system is not the point of entry for any of these forms.

(1) Authorization for Release of Information—PFPA Form 1400 (applicant): This form is sent from a PFPA employee to the applicant via email. The form gives PFPA permission to begin the background/evaluation process. This form must be printed and signed in ink then uploaded by the applicant to Salesforce. This form is then reviewed and processed by a PFPA employee.

(2) Supplemental History Questionnaire—PFPA Form 6040 (applicant): This form is also completed by applicant. It is sent to the applicants via email and returned via Salesforce. This form is then sent to a PFPA medical review officer to make a final determination on whether an applicant meets the necessary health requirements. The PFPA Form 6040 is administered after the applicant accepts a tentative job offer. This form also must be printed and signed in ink then uploaded by the applicant to Salesforce.

(3) Internal Affairs Request—PFPA Form 1407 (former and current supervisors): This information is important to ensure an applicant does not have any past professional issues. Recruiters gather information for this form via phone or email from former/current supervisors. The information is then entered into Salesforce.

(4) Employer Reference Questionnaire—PFPA Form 1410 (former and current supervisors): This form is also filled out by recruiters based on information obtained from applicant's current/former supervisors. The answers to the questions are obtained via phone or email. The information is then entered into Salesforce.

(5) Application Status Request—PFPA Form 1408 (other law enforcement agencies): This form is sent to other law enforcement agencies that the PFPA applicants have applied to via email. These law enforcement agencies fill out the forms and respond back via email or fax. These forms are then reviewed and processed by a PFPA employee.

(6) Character Reference Questionnaire—PFPA Form 1409 (references): This form is filled out by recruiters based on information obtained from applicant's character references. The answers to the questions are obtained via phone or email. These forms are then reviewed and processed by a PFPA employee. The questions on this form are not asked of the applicant, but of the applicant's Character References. These phone and email scripts will be included with this package.

Dated: March 2, 2026.
Aaron T. Siegel,
Alternate OSD Federal Register Liaison Officer, Department of Defense.

[FR Doc. 2026-04292 Filed 3-3-26; 8:45 am]

BILLING CODE 6001-FR-P